DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule.

SUMMARY: In accordance with the Commission's regulations, the Commission, by its designee, the Executive Director, issues this annual update to the fee schedule in the appendix to the part, which lists per-acre rental fees by county (or other geographic area) for use of government lands by hydropower licensees.

DATES: This rule is effective January 21, 2022. The updates to appendix A to part 11, with the fee schedule of per-acre rental fees by county (or other geographic area), are from October 1, 2021, through September 30, 2022 (Fiscal Year 2022).

FOR FURTHER INFORMATION CONTACT: Raven A. Rodriguez, Financial Management Division, Office of the Executive Director, Federal Energy Regulatory Commission, 888 First Street NE, Washington, DC 20426, (202) 502-6276, Raven.Rodriguez@ferc.gov.

SUPPLEMENTARY INFORMATION:

Annual Update to Fee Schedule

(Issued January 14, 2022)

Section 11.2 of the Commission's regulations provides a method for computing reasonable annual charges for recompensing the United States for the use, occupancy, and enjoyment of its lands by hydropower licensees.¹ Annual charges for the use of government lands are payable in advance, and are based on an annual schedule of per-acre rental fees published in appendix A to part 11 of the Commission's regulations.² This document updates the fee schedule in appendix A to part 11 for fiscal year 2022 (October 1, 2021, through September 30, 2022).

¹ Annual Charges for the Use of Government Lands, Order No. 774, 78 FR 5256 (January 25, 2013), FERC Stats. & Regs. ¶ 31,341 (2013).

² 18 CFR part 11 (2018).

Effective Date

This final rule is effective January 21, 2022. The provisions of 5 U.S.C. 804, regarding Congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: January 14, 2022.
Anton C. Porter,
Executive Director, Office of the Executive Director.

In consideration of the foregoing, the Commission amends appendix A to part 11, chapter I, title 18, Code of Federal Regulations, as follows:

PART 11—[AMENDED]

1. The authority citation for part 11 continues to read as follows:

Authority: 16 U.S.C. 792-828c; 42 U.S.C. 7101-7352.

2. Appendix A to part 11 is revised to read as follows:

Appendix A to Part 11—Fee Schedule for FY 2022
State | County | Fee/acre/yr
Alabama | Autauga | $59.33
| Baldwin | 156.65
| Barbour | 60.08
| Bibb | 75.52
| Blount | 96.91
| Bullock | 57.63
| Butler | 66.02
| Calhoun | 114.24
| Chambers | 67.61
| Cherokee | 85.21
| Chilton | 94.95
| Choctaw | 55.16
| Clarke | 61.32
| Clay | 75.52
| Cleburne | 93.09
| Coffee | 70.84
| Colbert | 71.70
| Conecuh | 57.63
| Coosa | 61.67
| Covington | 72.21
| Crenshaw | 67.10
| Cullman | 107.00
| Dale | 80.96
| Dallas | 50.45
| DeKalb | 105.87
| Elmore | 80.61
| Escambia | 66.13
| Etowah | 103.21
| Fayette | 59.35
| Franklin | 65.94
| Geneva | 66.62
| Greene | 52.49
| Hale | 60.81
| Henry | 69.41
| Houston | 95.06
| Jackson | 81.84
| Jefferson | 118.73
| Lamar | 50.02
| Lauderdale | 97.56
| Lawrence | 102.13
| Lee | 111.66
| Limestone | 111.17
| Lowndes | 51.07
| Macon | 63.15
| Madison | 142.76
| Marengo | 54.00
| Marion | 62.93
| Marshall | 119.22
| Mobile | 127.48
| Monroe | 64.46
| Montgomery | 71.57
| Morgan | 118.46
| Perry | 59.41
| Pickens | 68.02
| Pike | 70.49
| Randolph | 84.94
| Russell | 68.37
| Shelby | 106.97
| St. Clair | 115.07
| Sumter | 50.37
| Talladega | 89.03
| Tallapoosa | 76.81
| Tuscaloosa | 90.51
| Walker | 81.23
| Washington | 54.51
| Wilcox | 48.91
| Winston | 74.39
Alaska | Aleutian Islands | 0.90
| Statewide | 48.23
Arizona | Apache | 4.46
| Cochise | 32.55
| Coconino | 3.44
| Gila | 6.31
| Graham | 10.52
| Greenlee | 25.31
| La Paz | 32.73
| Maricopa | 149.93
| Mohave | 13.62
| Navajo | 3.59
| Pima | 8.55
| Pinal | 44.87
| Santa Cruz | 32.37
| Yavapai | 26.80
| Yuma | 149.91
Arkansas | Arkansas | 63.19
| Ashley | 58.03
| Baxter | 53.94
| Benton | 129.91
| Boone | 52.86
| Bradley | 65.92
| Calhoun | 51.96
| Carroll | 55.15
| Chicot | 59.58
| Clark | 48.55
| Clay | 86.43
| Cleburne | 58.92
| Cleveland | 84.87
| Columbia | 46.58
| Conway | 50.96
| Craighead | 92.51
| Crawford | 61.52
| Crittenden | 77.23
| Cross | 67.58
| Dallas | 39.08
| Desha | 65.25
| Drew | 58.01
| Faulkner | 77.01
| Franklin | 51.42
| Fulton | 37.44
| Garland | 104.80
| Grant | 72.43
| Greene | 85.01
| Hempstead | 50.21
| Hot Spring | 55.81
| Howard | 57.25
| Independence | 46.10
| Izard | 41.05
| Jackson | 67.56
| Jefferson | 65.51
| Johnson | 55.99
| Lafayette | 51.08
| Lawrence | 71.91
| Lee | 63.63
| Lincoln | 61.81
| Little River | 48.41
| Logan | 50.11
| Lonoke | 73.86
| Madison | 62.83
| Marion | 48.89
| Miller | 51.70
| Mississippi | 68.90
| Monroe | 56.61
| Montgomery | 52.12
| Nevada | 47.45
| Newton | 48.85
| Ouachita | 44.74
| Perry | 55.31
| Phillips | 63.89
| Pike | 52.30
| Poinsett | 76.62
| Polk | 59.34
| Pope | 64.37
| Prairie | 58.56
| Pulaski | 78.79
| Randolph | 58.88
| Saline | 68.66
| Scott | 49.21
| Searcy | 37.76
| Sebastian | 67.04
| Sevier | 53.50
| Sharp | 42.75
| St. Francis | 62.33
| Stone | 43.38
| Union | 55.45
| Van Buren | 55.23
| Washington | 102.91
| White | 55.73
| Woodruff | 65.25
| Yell | 54.04
California | Alameda | 45.36
| Alpine | 29.19
| Amador | 28.43
| Butte | 76.87
| Calaveras | 22.69
| Colusa | 50.85
| Contra Costa | 44.18
| Del Norte | 53.08
| El Dorado | 63.36
| Fresno | 72.51
| Glenn | 56.91
| Humboldt | 19.72
| Imperial | 71.08
| Inyo | 3.96
| Kern | 47.11
| Kings | 69.03
| Lake | 41.84
| Lassen | 13.65
| Los Angeles | 118.60
| Madera | 69.95
| Marin | 37.42
| Mariposa | 13.17
| Mendocino | 24.44
| Merced | 83.53
| Modoc | 12.49
| Mono | 12.26
| Monterey | 47.03
| Napa | 281.84
| Nevada | 47.39
| Orange | 121.88
| Placer | 42.86
| Plumas | 14.67
| Riverside | 115.81
| Sacramento | 64.14
| San Benito | 22.78
| San Bernardino | 127.00
| San Diego | 148.14
| San Francisco | 496.35
| San Joaquin | 95.87
| San Luis Obispo | 48.17
| San Mateo | 62.36
| Santa Barbara | 66.26
| Santa Clara | 51.93
| Santa Cruz | 136.29
| Shasta | 18.63
| Sierra | 10.86
| Siskiyou | 19.57
| Solano | 58.39
| Sonoma | 141.62
| Stanislaus | 99.70
| Sutter | 60.80
| Tehama | 27.53
| Trinity | 12.26
| Tulare | 74.85
| Tuolumne | 23.71
| Ventura | 162.76
| Yolo | 61.94
| Yuba | 52.48
Colorado | Adams | 27.50
| Alamosa | 36.14
| Arapahoe | 38.53
| Archuleta | 52.92
| Baca | 13.37
| Bent | 11.76
| Boulder | 214.32
| Broomfield | 93.21
| Chaffee | 86.52
| Cheyenne | 14.29
| Clear Creek | 53.82
| Conejos | 28.76
| Costilla | 20.71
| Crowley | 8.68
| Custer | 33.13
| Delta | 82.06
| Denver | 1,086.50
| Dolores | 30.40
| Douglas | 115.03
| Eagle | 56.42
| El Paso | 23.99
| Elbert | 26.02
| Fremont | 39.83
| Garfield | 40.90
| Gilpin | 72.05
| Grand | 37.49
| Gunnison | 43.76
| Hinsdale | 31.39
| Huerfano | 16.40
| Jackson | 22.56
| Jefferson | 131.53
| Kiowa | 12.85
| Kit Carson | 20.78
| La Plata | 38.51
| Lake | 35.04
| Larimer | 79.06
| Las Animas | 10.26
| Lincoln | 12.00
| Logan | 20.25
| Mesa | 94.16
| Mineral | 58.67
| Moffat | 13.62
| Montezuma | 20.65
| Montrose | 52.73
| Morgan | 29.58
| Otero | 12.79
| Ouray | 52.07
| Park | 28.64
| Phillips | 28.85
| Pitkin | 129.86
| Prowers | 13.74
| Pueblo | 17.53
| Rio Blanco | 23.41
| Rio Grande | 53.24
| Routt | 53.55
| Saguache | 32.36
| San Juan | 27.41
| San Miguel | 25.40
| Sedgwick | 23.07
| Summit | 72.03
| Teller | 34.49
| Washington | 18.72
| Weld | 44.09
| Yuma | 27.84
Connecticut | Fairfield | 278.46
| Hartford | 416.01
| Litchfield | 292.08
| Middlesex | 384.67
| New Haven | 605.98
| New London | 295.82
| Tolland | 250.31
| Windham | 243.84
Delaware | Kent | 207.75
| New Castle | 249.08
| Sussex | 222.18
Florida | Alachua | 153.18
| Baker | 89.74
| Bay | 40.11
| Bradford | 93.43
| Brevard | 98.32
| Broward | 648.17
| Calhoun | 42.13
| Charlotte | 140.35
| Citrus | 155.08
| Clay | 111.99
| Collier | 92.88
| Columbia | 85.30
| Dade | 732.47
| DeSoto | 97.95
| Dixie | 72.80
| Duval | 147.14
| Escambia | 121.38
| Flagler | 108.84
| Franklin | 115.42
| Gadsden | 83.24
| Gilchrist | 104.07
| Glades | 84.26
| Gulf | 28.07
| Hamilton | 75.59
| Hardee | 104.38
| Hendry | 95.84
| Hernando | 205.13
| Highlands | 76.40
| Hillsborough | 228.41
| Holmes | 65.21
| Indian River | 112.36
| Jackson | 72.25
| Jefferson | 67.83
| Lafayette | 59.15
| Lake | 155.14
| Lee | 238.73
| Leon | 83.44
| Levy | 90.13
| Liberty | 76.59
| Madison | 68.98
| Manatee | 152.24
| Marion | 217.38
| Martin | 85.98
| Monroe | 115.42
| Nassau | 73.23
| Okaloosa | 93.16
| Okeechobee | 82.60
| Orange | 164.92
| Osceola | 75.89
| Palm Beach | 163.88
| Pasco | 140.06
| Pinellas | 1,123.92
| Polk | 118.60
| Putnam | 77.78
| Santa Rosa | 104.87
| Sarasota | 179.84
| Seminole | 161.77
| St. Johns | 166.39
| St. Lucie | 116.88
| Sumter | 117.84
| Suwannee | 86.41
| Taylor | 71.39
| Union | 72.80
| Volusia | 201.63
| Wakulla | 66.89
| Walton | 73.76
| Washington | 74.71
Georgia | Appling | 81.60
| Atkinson | 72.93
| Bacon | 103.37
| Baker | 55.80
| Baldwin | 54.37
| Banks | 135.14
| Barrow | 164.67
| Bartow | 151.31
| Ben Hill | 62.01
| Berrien | 78.56
| Bibb | 100.61
| Bleckley | 64.79
| Brantley | 73.31
| Brooks | 87.80
| Bryan | 77.28
| Bulloch | 71.93
| Burke | 71.40
| Butts | 97.87
| Calhoun | 75.69
| Camden | 71.95
| Candler | 79.36
| Carroll | 120.20
| Catoosa | 138.20
| Charlton | 60.95
| Chatham | 127.53
| Chattahoochee | 74.29
| Chattooga | 88.95
| Cherokee | 217.86
| Clarke | 194.26
| Clay | 59.44
| Clayton | 209.83
| Clinch | 100.03
| Cobb | 286.93
| Coffee | 75.74
| Colquitt | 83.08
| Columbia | 111.81
| Cook | 76.30
| Coweta | 121.18
| Crawford | 101.18
| Crisp | 76.97
| Dade | 99.98
| Dawson | 175.37
| Decatur | 81.87
| DeKalb | 1,178.68
| Dodge | 65.30
| Dooly | 73.38
| Dougherty | 97.17
| Douglas | 168.14
| Early | 64.52
| Echols | 70.09
| Effingham | 81.62
| Elbert | 98.57
| Emanuel | 52.51
| Evans | 67.78
| Fannin | 148.22
| Fayette | 136.65
| Floyd | 122.21
| Forsyth | 197.87
| Franklin | 144.36
| Fulton | 478.75
| Gilmer | 192.30
| Glascock | 39.98
| Glynn | 387.03
| Gordon | 164.37
| Grady | 94.43
| Greene | 90.06
| Gwinnett | 234.54
| Habersham | 179.82
| Hall | 234.36
| Hancock | 52.54
| Haralson | 119.29
| Harris | 108.54
| Hart | 141.19
| Heard | 90.69
| Henry | 187.90
| Houston | 100.98
| Irwin | 81.60
| Jackson | 159.98
| Jasper | 87.42
| Jeff Davis | 62.91
| Jefferson | 65.05
| Jenkins | 65.80
| Johnson | 52.56
| Jones | 70.47
| Lamar | 87.92
| Lanier | 76.10
| Laurens | 52.64
| Lee | 84.99
| Liberty | 132.83
| Lincoln | 78.48
| Long | 84.41
| Lowndes | 136.90
| Lumpkin | 148.80
| Macon | 80.79
| Madison | 142.25
| Marion | 59.65
| McDuffie | 75.19
| McIntosh | 59.57
| Meriwether | 81.92
| Miller | 81.42
| Mitchell | 92.97
| Monroe | 82.35
| Montgomery | 64.89
| Morgan | 117.36
| Murray | 127.28
| Muscogee | 125.65
| Newton | 112.39
| Oconee | 181.70
| Oglethorpe | 109.32
| Paulding | 145.18
| Peach | 144.81
| Pickens | 214.20
| Pierce | 72.25
| Pike | 122.98
| Polk | 90.81
| Pulaski | 67.08
| Putnam | 105.63
| Quitman | 57.94
| Rabun | 206.94
| Randolph | 71.12
| Richmond | 92.42
| Rockdale | 177.31
| Schley | 71.52
| Screven | 55.25
| Seminole | 78.88
| Spalding | 128.61
| Stephens | 145.01
| Stewart | 51.96
| Sumter | 71.80
| Talbot | 68.69
| Taliaferro | 82.68
| Tattnall | 97.29
| Taylor | 52.21
| Telfair | 55.50
| Terrell | 70.39
| Thomas | 91.42
| Tift | 79.71
| Toombs | 69.82
| Towns | 138.05
| Treutlen | 47.29
| Troup | 81.52
| Turner | 77.45
| Twiggs | 60.70
| Union | 144.93
| Upson | 99.30
| Walker | 106.46
| Walton | 142.25
| Ware | 64.42
| Warren | 74.89
| Washington | 52.89
| Wayne | 52.24
| Webster | 61.33
| Wheeler | 45.93
| White | 204.08
| Whitfield | 155.33
| Wilcox | 65.50
| Wilkes | 86.57
| Wilkinson | 51.48
| Worth | 75.42
Hawaii | Hawaii | 150.06
| Honolulu | 536.57
| Kauai | 194.38
| Maui | 248.14
Idaho | Ada | 123.18
| Adams | 20.08
| Bannock | 25.29
| Bear Lake | 18.64
| Benewah | 25.07
| Bingham | 32.95
| Blaine | 32.77
| Boise | 18.56
| Bonner | 65.22
| Bonneville | 37.75
| Boundary | 61.96
| Butte | 26.59
| Camas | 17.37
| Canyon | 106.72
| Caribou | 24.04
| Cassia | 41.32
| Clark | 22.73
| Clearwater | 31.98
| Custer | 35.31
| Elmore | 32.28
| Franklin | 30.11
| Fremont | 35.84
| Gem | 36.46
| Gooding | 77.92
| Idaho | 21.29
| Jefferson | 45.62
| Jerome | 78.22
| Kootenai | 71.56
| Latah | 32.92
| Lemhi | 32.72
| Lewis | 25.44
| Lincoln | 47.29
| Madison | 53.91
| Minidoka | 58.79
| Nez Perce | 26.93
| Oneida | 21.47
| Owyhee | 21.09
| Payette | 45.40
| Power | 31.95
| Shoshone | 86.97
| Teton | 51.21
| Twin Falls | 57.49
| Valley | 33.60
| Washington | 17.54
Illinois | Adams | 177.82
| Alexander | 93.56
| Bond | 187.88
| Boone | 213.49
| Brown | 153.01
| Bureau | 224.64
| Calhoun | 114.49
| Carroll | 219.72
| Cass | 174.87
| Champaign | 254.65
| Christian | 236.09
| Clark | 156.01
| Clay | 139.97
| Clinton | 189.36
| Coles | 215.24
| Cook | 564.00
| Crawford | 143.60
| Cumberland | 173.39
| De Witt | 229.23
| DeKalb | 257.47
| Douglas | 247.93
| DuPage | 459.37
| Edgar | 202.94
| Edwards | 146.83
| Effingham | 180.47
| Fayette | 147.54
| Ford | 212.34
| Franklin | 121.90
| Fulton | 169.27
| Gallatin | 145.05
| Greene | 169.02
| Grundy | 242.38
| Hamilton | 131.47
| Hancock | 193.81
| Hardin | 89.68
| Henderson | 190.26
| Henry | 215.98
| Iroquois | 200.84
| Jackson | 147.21
| Jasper | 153.99
| Jefferson | 113.65
| Jersey | 173.01
| Jo Daviess | 167.00
| Johnson | 101.16
| Kane | 288.57
| Kankakee | 213.79
| Kendall | 247.60
| Knox | 200.04
| La Salle | 249.41
| Lake | 332.06
| Lawrence | 154.43
| Lee | 236.91
| Livingston | 224.94
| Logan | 229.04
| Macon | 252.82
| Macoupin | 196.65
| Madison | 237.95
| Marion | 133.52
| Marshall | 220.71
| Mason | 190.86
| Massac | 105.80
| McDonough | 200.45
| McHenry | 260.78
| McLean | 269.06
| Menard | 213.38
| Mercer | 179.05
| Monroe | 182.00
| Montgomery | 198.87
| Morgan | 225.41
| Moultrie | 238.80
| Ogle | 235.03
| Peoria | 215.70
| Perry | 130.70
| Piatt | 253.10
| Pike | 161.70
| Pope | 95.42
| Pulaski | 112.14
| Putnam | 228.82
| Randolph | 148.22
| Richland | 144.31
| Rock Island | 190.37
| Saline | 131.85
| Sangamon | 244.10
| Schuyler | 149.89
| Scott | 177.60
| Shelby | 192.61
| St. Clair | 202.72
| Stark | 227.24
| Stephenson | 230.25
| Tazewell | 226.09
| Union | 116.11
| Vermilion | 224.21
| Wabash | 151.23
| Warren | 221.17
| Washington | 175.53
| Wayne | 130.21
| White | 136.20
| Whiteside | 215.70
| Will | 242.93
| Williamson | 108.04
| Winnebago | 195.07
| Woodford | 245.22
Indiana | Adams | 225.39
| Allen | 216.56
| Bartholomew | 182.19
| Benton | 210.68
| Blackford | 179.93
| Boone | 207.60
| Brown | 119.59
| Carroll | 205.37
| Cass | 170.06
| Clark | 150.23
| Clay | 138.93
| Clinton | 195.29
| Crawford | 84.28
| Daviess | 207.57
| Dearborn | 132.42
| Decatur | 192.95
| DeKalb | 151.10
| Delaware | 180.69
| Dubois | 148.60
| Elkhart | 304.50
| Fayette | 154.07
| Floyd | 148.63
| Fountain | 183.38
| Franklin | 154.46
| Fulton | 171.94
| Gibson | 176.63
| Grant | 192.29
| Greene | 134.90
| Hamilton | 238.36
| Hancock | 205.48
| Harrison | 124.63
| Hendricks | 208.07
| Henry | 163.09
| Howard | 211.52
| Huntington | 186.71
| Jackson | 144.24
| Jasper | 175.87
| Jay | 206.62
| Jefferson | 112.80
| Jennings | 124.33
| Johnson | 183.74
| Knox | 169.55
| Kosciusko | 193.95
| LaGrange | 251.95
| Lake | 189.76
| LaPorte | 200.36
| Lawrence | 101.23
| Madison | 220.87
| Marion | 287.77
| Marshall | 170.50
| Martin | 105.86
| Miami | 183.88
| Monroe | 178.94
| Montgomery | 190.25
| Morgan | 171.32
| Newton | 183.41
| Noble | 174.18
| Ohio | 118.99
| Orange | 122.28
| Owen | 123.75
| Parke | 159.09
| Perry | 109.32
| Pike | 134.32
| Porter | 184.31
| Posey | 165.43
| Pulaski | 167.53
| Putnam | 175.29
| Randolph | 174.80
| Ripley | 140.64
| Rush | 197.63
| Scott | 146.23
| Shelby | 189.19
| Spencer | 125.55
| St. Joseph | 220.30
| Starke | 136.31
| Steuben | 150.83
| Sullivan | 135.58
| Switzerland | 111.63
| Tippecanoe | 245.90
| Tipton | 222.48
| Union | 172.71
| Vanderburgh | 215.37
| Vermillion | 154.56
| Vigo | 147.78
| Wabash | 171.34
| Warren | 184.86
| Warrick | 147.89
| Washington | 122.61
| Wayne | 149.61
| Wells | 205.50
| White | 212.89
| Whitley | 172.79
Iowa | Adair | 143.12
| Adams | 136.47
| Allamakee | 146.26
| Appanoose | 111.24
| Audubon | 187.88
| Benton | 202.14
| Black Hawk | 238.70
| Boone | 217.99
| Bremer | 218.67
| Buchanan | 215.74
| Buena Vista | 220.15
| Butler | 196.18
| Calhoun | 217.33
| Carroll | 219.74
| Cass | 161.31
| Cedar | 215.03
| Cerro Gordo | 200.88
| Cherokee | 216.56
| Chickasaw | 204.22
| Clarke | 116.87
| Clay | 218.51
| Clayton | 151.74
| Clinton | 206.44
| Crawford | 185.37
| Dallas | 223.54
| Davis | 107.16
| Decatur | 105.22
| Delaware | 212.70
| Des Moines | 189.09
| Dickinson | 203.56
| Dubuque | 236.24
| Emmet | 196.53
| Fayette | 196.37
| Floyd | 201.38
| Franklin | 213.83
| Fremont | 164.24
| Greene | 227.04
| Grundy | 248.63
| Guthrie | 172.42
| Hamilton | 222.06
| Hancock | 208.54
| Hardin | 213.80
| Harrison | 168.59
| Henry | 171.49
| Howard | 204.00
| Humboldt | 221.32
| Ida | 201.05
| Iowa | 175.54
| Jackson | 163.45
| Jasper | 178.20
| Jefferson | 151.54
| Johnson | 219.93
| Jones | 190.51
| Keokuk | 159.73
| Kossuth | 215.96
| Lee | 141.36
| Linn | 227.89
| Louisa | 181.45
| Lucas | 93.39
| Lyon | 273.32
| Madison | 155.10
| Mahaska | 169.47
| Marion | 157.92
| Marshall | 207.97
| Mills | 163.97
| Mitchell | 215.22
| Monona | 157.67
| Monroe | 115.10
| Montgomery | 155.43
| Muscatine | 183.89
| O'Brien | 266.17
| Osceola | 239.77
| Page | 146.95
| Palo Alto | 219.30
| Plymouth | 234.27
| Pocahontas | 220.67
| Polk | 241.93
| Pottawattamie | 185.64
| Poweshiek | 183.56
| Ringgold | 105.46
| Sac | 217.36
| Scott | 262.37
| Shelby | 187.53
| Sioux | 284.73
| Story | 259.06
| Tama | 198.56
| Taylor | 131.68
| Union | 121.99
| Van Buren | 127.90
| Wapello | 133.43
| Warren | 154.23
| Washington | 188.51
| Wayne | 116.35
| Webster | 217.49
| Winnebago | 191.25
| Winneshiek | 175.16
| Woodbury | 201.81
| Worth | 190.35
| Wright | 207.23
Kansas | Allen | 54.97
| Anderson | 55.21
| Atchison | 82.36
| Barber | 38.90
| Barton | 42.53
| Bourbon | 54.40
| Brown | 95.01
| Butler | 61.44
| Chase | 51.77
| Chautauqua | 44.18
| Cherokee | 59.90
| Cheyenne | 40.01
| Clark | 32.16
| Clay | 73.47
| Cloud | 62.36
| Coffey | 49.44
| Comanche | 31.40
| Cowley | 50.09
| Crawford | 54.56
| Decatur | 39.50
| Dickinson | 57.97
| Doniphan | 92.95
| Douglas | 110.31
| Edwards | 49.93
| Elk | 41.85
| Ellis | 36.55
| Ellsworth | 43.56
| Finney | 42.40
| Ford | 41.91
| Franklin | 65.10
| Geary | 62.34
| Gove | 35.24
| Graham | 34.81
| Grant | 42.69
| Gray | 43.24
| Greeley | 38.36
| Greenwood | 45.16
| Hamilton | 28.88
| Harper | 44.48
| Harvey | 85.80
| Haskell | 41.37
| Hodgeman | 31.86
| Jackson | 72.52
| Jefferson | 78.67
| Jewell | 55.81
| Johnson | 102.21
| Kearny | 39.06
| Kingman | 43.86
| Kiowa | 42.56
| Labette | 57.46
| Lane | 34.51
| Leavenworth | 92.68
| Lincoln | 46.79
| Linn | 69.19
| Logan | 36.46
| Lyon | 53.86
| Marion | 55.32
| Marshall | 83.82
| McPherson | 74.20
| Meade | 39.99
| Miami | 83.85
| Mitchell | 50.61
| Montgomery | 54.45
| Morris | 43.94
| Morton | 27.74
| Nemaha | 81.43
| Neosho | 53.18
| Ness | 29.37
| Norton | 36.87
| Osage | 53.96
| Osborne | 38.20
| Ottawa | 54.48
| Pawnee | 44.92
| Phillips | 39.06
| Pottawatomie | 66.67
| Pratt | 55.67
| Rawlins | 41.77
| Reno | 57.95
| Republic | 70.06
| Rice | 55.16
| Riley | 81.87
| Rooks | 33.89
| Rush | 35.19
| Russell | 36.27
| Saline | 64.23
| Scott | 41.04
| Sedgwick | 93.84
| Seward | 38.20
| Shawnee | 81.08
| Sheridan | 42.37
| Sherman | 47.71
| Smith | 51.72
| Stafford | 48.84
| Stanton | 28.82
| Stevens | 37.57
| Sumner | 49.79
| Thomas | 47.33
| Trego | 30.91
| Wabaunsee | 52.20
| Wallace | 36.63
| Washington | 65.72
| Wichita | 37.95
| Wilson | 52.75
| Woodson | 45.02
| Wyandotte | 182.64
Kentucky | Adair | 82.01
| Allen | 94.39
| Anderson | 101.23
| Ballard | 98.53
| Barren | 98.21
| Bath | 64.34
| Bell | 54.26
| Boone | 163.70
| Bourbon | 154.97
| Boyd | 65.57
| Boyle | 101.42
| Bracken | 68.11
| Breathitt | 42.78
| Breckinridge | 84.17
| Bullitt | 140.71
| Butler | 72.20
| Caldwell | 91.04
| Calloway | 112.38
| Campbell | 137.96
| Carlisle | 103.55
| Carroll | 92.51
| Carter | 52.70
| Casey | 63.88
| Christian | 131.33
| Clark | 120.81
| Clay | 49.46
| Clinton | 76.01
| Crittenden | 74.90
| Cumberland | 55.97
| Daviess | 135.94
| Edmonson | 86.65
| Elliott | 44.14
| Estill | 65.54
| Fayette | 398.58
| Fleming | 72.06
| Floyd | 84.19
| Franklin | 108.16
| Fulton | 100.17
| Gallatin | 77.57
| Garrard | 79.53
| Grant | 90.22
| Graves | 104.29
| Grayson | 80.59
| Green | 70.75
| Greenup | 67.37
| Hancock | 81.17
| Hardin | 125.25
| Harlan | 42.64
| Harrison | 84.52
| Hart | 83.92
| Henderson | 138.94
| Henry | 105.27
| Hickman | 109.44
| Hopkins | 91.94
| Jackson | 64.23
| Jefferson | 335.24
| Jessamine | 181.04
| Johnson | 81.82
| Kenton | 152.60
| Knott | 34.87
| Knox | 65.27
| Larue | 96.76
| Laurel | 91.14
| Lawrence | 43.60
| Lee | 55.81
| Leslie | 104.15
| Letcher | 81.79
| Lewis | 57.15
| Lincoln | 88.50
| Livingston | 76.67
| Logan | 131.66
| Lyon | 85.09
| Madison | 94.55
| Magoffin | 56.44
| Marion | 94.93
| Marshall | 103.50
| Martin | 94.09
| Mason | 80.62
| McCracken | 121.49
| McCreary | 66.93
| McLean | 121.76
| Meade | 118.00
| Menifee | 52.70
| Mercer | 107.01
| Metcalfe | 72.99
| Monroe | 77.62
| Montgomery | 95.56
| Morgan | 53.11
| Muhlenberg | 81.68
| Nelson | 110.72
| Nicholas | 63.31
| Ohio | 93.19
| Oldham | 217.13
| Owen | 77.19
| Owsley | 36.59
| Pendleton | 77.43
| Perry | 31.24
| Pike | 38.55
| Powell | 63.63
| Pulaski | 88.28
| Robertson | 59.63
| Rockcastle | 59.41
| Rowan | 75.52
| Russell | 84.33
| Scott | 152.54
| Shelby | 158.38
| Simpson | 154.73
| Spencer | 123.83
| Taylor | 82.83
| Todd | 141.37
| Trigg | 112.06
| Trimble | 88.47
| Union | 137.38
| Warren | 145.43
| Washington | 87.57
| Wayne | 72.69
| Webster | 100.41
| Whitley | 69.03
| Wolfe | 54.96
| Woodford | 221.14
Louisiana | Acadia | 68.97
| Allen | 64.07
| Ascension | 90.54
| Assumption | 73.51
| Avoyelles | 63.52
| Beauregard | 75.88
| Bienville | 63.60
| Bossier | 77.96
| Caddo | 74.48
| Calcasieu | 86.89
| Caldwell | 62.60
| Cameron | 61.87
| Catahoula | 67.47
| Claiborne | 59.65
| Concordia | 69.97
| De Soto | 74.06
| East Baton Rouge | 206.03
| East Carroll | 92.71
| East Feliciana | 69.89
| Evangeline | 60.95
| Franklin | 70.81
| Grant | 68.37
| Iberia | 71.61
| Iberville | 44.85
| Jackson | 99.95
| Jefferson | 58.28
| Jefferson Davis | 55.61
| La Salle | 79.53
| Lafayette | 139.36
| Lafourche | 72.39
| Lincoln | 80.15
| Livingston | 133.61
| Madison | 68.64
| Morehouse | 79.40
| Natchitoches | 58.30
| Orleans | 258.56
| Ouachita | 106.40
| Plaquemines | 35.23
| Pointe Coupee | 77.18
| Rapides | 93.56
| Red River | 55.88
| Richland | 70.69
| Sabine | 94.36
| St. Bernard | 43.75
| St. Charles | 87.17
| St. Helena | 103.85
| St. James | 76.46
| St. John the Baptist | 87.39
| St. Landry | 72.89
| St. Martin | 80.03
| St. Mary | 82.35
| St. Tammany | 267.95
| Tangipahoa | 126.37
| Tensas | 69.99
| Terrebonne | 102.83
| Union | 76.01
| Vermilion | 71.84
| Vernon | 92.46
| Washington | 90.19
| Webster | 73.39
| West Baton Rouge | 70.41
| West Carroll | 82.30
| West Feliciana | 73.29
| Winn | 70.02
Maine | Androscoggin | 90.21
| Aroostook | 44.54
| Cumberland | 174.75
| Franklin | 63.55
| Hancock | 71.49
| Kennebec | 77.34
| Knox | 120.89
| Lincoln | 118.82
| Oxford | 74.56
| Penobscot | 63.09
| Piscataquis | 36.02
| Sagadahoc | 105.77
| Somerset | 37.76
| Waldo | 76.70
| Washington | 39.25
| York | 131.00
Maryland | Allegany | 149.97
| Anne Arundel | 276.56
| Baltimore | 397.60
| Calvert | 275.09
| Caroline | 191.12
| Carroll | 219.33
| Cecil | 215.01
| Charles | 253.66
| Dorchester | 152.23
| Frederick | 255.38
| Garrett | 122.32
| Harford | 292.49
| Howard | 245.56
| Kent | 177.25
| Montgomery | 220.27
| Prince George's | 218.10
| Queen Anne's | 196.83
| Somerset | 153.57
| St. Mary's | 266.83
| Talbot | 188.49
| Washington | 216.09
| Wicomico | 188.65
| Worcester | 142.14
Massachusetts | Barnstable | 735.95
| Berkshire | 184.11
| Bristol | 438.03
| Dukes | 275.28
| Essex | 420.30
| Franklin | 154.61
| Hampden | 249.12
| Hampshire | 184.55
| Middlesex | 384.03
| Nantucket | 942.34
| Norfolk | 413.08
| Plymouth | 230.62
| Suffolk | 5,537.36
| Worcester | 296.19
Michigan | Alcona | 68.95
| Alger | 54.31
| Allegan | 159.23
| Alpena | 67.75
| Antrim | 111.89
| Arenac | 89.32
| Baraga | 58.28
| Barry | 127.81
| Bay | 134.50
| Benzie | 105.45
| Berrien | 171.58
| Branch | 112.77
| Calhoun | 141.34
| Cass | 123.05
| Charlevoix | 100.37
| Cheboygan | 68.21
| Chippewa | 57.61
| Clare | 80.16
| Clinton | 150.55
| Crawford | 93.23
| Delta | 47.52
| Dickinson | 72.60
| Eaton | 111.17
| Emmet | 100.29
| Genesee | 140.09
| Gladwin | 104.07
| Gogebic | 69.24
| Grand Traverse | 169.37
| Gratiot | 144.61
| Hillsdale | 114.72
| Houghton | 62.67
| Huron | 161.01
| Ingham | 141.76
| Ionia | 131.91
| Iosco | 83.94
| Iron | 52.61
| Isabella | 109.12
| Jackson | 132.74
| Kalamazoo | 187.82
| Kalkaska | 70.66
| Kent | 196.47
| Keweenaw | 89.85
| Lake | 65.54
| Lapeer | 122.65
| Leelanau | 194.90
| Lenawee | 139.13
| Livingston | 151.77
| Luce | 67.11
| Mackinac | 53.16
| Macomb | 135.64
| Manistee | 76.78
| Marquette | 58.73
| Mason | 82.82
| Mecosta | 93.31
| Menominee | 56.57
| Midland | 147.54
| Missaukee | 97.38
| Monroe | 163.89
| Montcalm | 106.25
| Montmorency | 57.13
| Muskegon | 171.05
| Newaygo | 103.53
| Oakland | 309.43
| Oceana | 110.72
| Ogemaw | 74.46
| Ontonagon | 42.52
| Osceola | 79.95
| Oscoda | 72.97
| Otsego | 74.01
| Ottawa | 220.19
| Presque Isle | 62.43
| Roscommon | 65.25
| Saginaw | 154.54
| Sanilac | 131.25
| Schoolcraft | 48.45
| Shiawassee | 120.09
| St. Clair | 139.87
| St. Joseph | 152.20
| Tuscola | 138.89
| Van Buren | 154.12
| Washtenaw | 208.27
| Wayne | 307.78
| Wexford | 89.66
Minnesota | Aitkin | 57.49
| Anoka | 206.91
| Becker | 79.22
| Beltrami | 53.60
| Benton | 119.68
| Big Stone | 118.53
| Blue Earth | 196.34
| Brown | 179.22
| Carlton | 58.75
| Carver | 183.80
| Cass | 68.24
| Chippewa | 160.68
| Chisago | 124.72
| Clay | 107.63
| Clearwater | 55.23
| Cook | 161.58
| Cottonwood | 172.32
| Crow Wing | 73.28
| Dakota | 188.16
| Dodge | 187.89
| Douglas | 107.57
| Faribault | 185.35
| Fillmore | 151.41
| Freeborn | 164.39
| Goodhue | 169.13
| Grant | 120.03
| Hennepin | 367.05
| Houston | 116.95
| Hubbard | 72.13
| Isanti | 105.97
| Itasca | 77.48
| Jackson | 175.51
| Kanabec | 72.30
| Kandiyohi | 142.25
| Kittson | 61.31
| Koochiching | 39.34
| Lac qui Parle | 122.08
| Lake | 98.93
| Lake of the Woods | 46.26
| Le Sueur | 168.34
| Lincoln | 131.84
| Lyon | 159.53
| Mahnomen | 80.56
| Marshall | 67.44
| Martin | 182.98
| McLeod | 156.04
| Meeker | 141.49
| Mille Lacs | 84.56
| Morrison | 90.24
| Mower | 185.73
| Murray | 168.09
| Nicollet | 190.88
| Nobles | 188.40
| Norman | 89.99
| Olmsted | 181.48
| Otter Tail | 80.94
| Pennington | 52.56
| Pine | 64.45
| Pipestone | 159.02
| Polk | 89.42
| Pope | 112.97
| Ramsey | 726.41
| Red Lake | 64.61
| Redwood | 170.08
| Renville | 178.83
| Rice | 186.93
| Rock | 208.03
| Roseau | 47.52
| Scott | 206.91
| Sherburne | 140.53
| Sibley | 183.91
| St. Louis | 54.30
| Stearns | 140.37
| Steele | 169.05
| Stevens | 138.41
| Swift | 137.48
| Todd | 74.83
| Traverse | 135.73
| Wabasha | 150.46
| Wadena | 59.98
| Waseca | 180.50
| Washington | 237.04
| Watonwan | 193.47
| Wilkin | 105.56
| Winona | 156.83
| Wright | 175.59
| Yellow Medicine | 147.43
Mississippi | Adams | 75.39
| Alcorn | 54.46
| Amite | 81.57
| Attala | 47.18
| Benton | 49.22
| Bolivar | 77.31
| Calhoun | 45.39
| Carroll | 54.64
| Chickasaw | 51.19
| Choctaw | 47.05
| Claiborne | 69.21
| Clarke | 57.17
| Clay | 47.97
| Coahoma | 84.51
| Copiah | 65.50
| Covington | 92.13
| DeSoto | 76.90
| Forrest | 108.46
| Franklin | 81.11
| George | 95.35
| Greene | 64.61
| Grenada | 56.22
| Hancock | 98.67
| Harrison | 214.01
| Hinds | 84.13
| Holmes | 61.97
| Humphreys | 83.57
| Issaquena | 69.95
| Itawamba | 43.75
| Jackson | 128.09
| Jasper | 71.68
| Jefferson | 64.40
| Jefferson Davis | 65.68
| Jones | 96.75
| Kemper | 51.67
| Lafayette | 70.02
| Lamar | 90.67
| Lauderdale | 52.52
| Lawrence | 82.06
| Leake | 77.36
| Lee | 46.82
| Leflore | 74.16
| Lincoln | 78.48
| Lowndes | 64.66
| Madison | 67.16
| Marion | 73.63
| Marshall | 61.41
| Monroe | 56.17
| Montgomery | 51.09
| Neshoba | 68.08
| Newton | 60.59
| Noxubee | 64.73
| Oktibbeha | 71.45
| Panola | 62.94
| Pearl River | 90.60
| Perry | 82.03
| Pike | 95.22
| Pontotoc | 50.29
| Prentiss | 52.29
| Quitman | 73.12
| Rankin | 84.33
| Scott | 65.07
| Sharkey | 84.59
| Simpson | 70.48
| Smith | 73.42
| Stone | 84.54
| Sunflower | 81.37
| Tallahatchie | 72.07
| Tate | 72.20
| Tippah | 52.95
| Tishomingo | 48.30
| Tunica | 75.52
| Union | 51.09
| Walthall | 79.33
| Warren | 62.02
| Washington | 94.76
| Wayne | 79.12
| Webster | 46.84
| Wilkinson | 61.36
| Winston | 58.19
| Yalobusha | 47.64
| Yazoo | 71.28
Missouri | Adair | 74.73
| Andrew | 102.86
| Atchison | 131.24
| Audrain | 113.92
| Barry | 91.78
| Barton | 73.69
| Bates | 82.71
| Benton | 73.26
| Bollinger | 67.10
| Boone | 151.34
| Buchanan | 108.48
| Butler | 125.67
| Caldwell | 84.85
| Callaway | 106.00
| Camden | 59.10
| Cape Girardeau | 116.25
| Carroll | 95.82
| Carter | 51.10
| Cass | 100.62
| Cedar | 66.62
| Chariton | 92.05
| Christian | 107.79
| Clark | 95.69
| Clay | 111.59
| Clinton | 99.60
| Cole | 97.59
| Cooper | 87.47
| Crawford | 69.14
| Dade | 75.13
| Dallas | 67.93
| Daviess | 87.39
| DeKalb | 87.61
| Dent | 55.97
| Douglas | 56.21
| Dunklin | 136.24
| Franklin | 103.43
| Gasconade | 74.60
| Gentry | 82.92
| Greene | 127.01
| Grundy | 78.37
| Harrison | 74.09
| Henry | 72.00
| Hickory | 56.42
| Holt | 130.97
| Howard | 80.92
| Howell | 57.39
| Iron | 55.27
| Jackson | 155.62
| Jasper | 86.21
| Jefferson | 112.42
| Johnson | 89.51
| Knox | 81.42
| Laclede | 67.37
| Lafayette | 121.39
| Lawrence | 85.60
| Lewis | 88.65
| Lincoln | 116.73
| Linn | 77.17
| Livingston | 90.26
| Macon | 85.49
| Madison | 56.18
| Maries | 52.76
| Marion | 106.16
| McDonald | 71.79
| Mercer | 72.08
| Miller | 66.84
| Mississippi | 156.24
| Moniteau | 95.56
| Monroe | 95.26
| Montgomery | 100.94
| Morgan | 102.70
| New Madrid | 149.65
| Newton | 97.40
| Nodaway | 107.39
| Oregon | 47.67
| Osage | 64.64
| Ozark | 57.09
| Pemiscot | 140.12
| Perry | 87.61
| Pettis | 93.68
| Phelps | 70.56
| Pike | 94.11
| Platte | 118.55
| Polk | 67.59
| Pulaski | 59.88
| Putnam | 67.45
| Ralls | 103.05
| Randolph | 92.64
| Ray | 94.11
| Reynolds | 42.80
| Ripley | 65.47
| Saline | 107.33
| Schuyler | 69.08
| Scotland | 90.20
| Scott | 136.16
| Shannon | 52.54
| Shelby | 99.81
| St Louis | 116.38
| St. Charles | 130.75
| St. Clair | 65.66
| St. Francois | 78.51
| Ste. Genevieve | 78.99
| Stoddard | 143.28
| Stone | 77.46
| Sullivan | 62.58
| Taney | 59.82
| Texas | 55.30
| Vernon | 76.04
| Warren | 108.35
| Washington | 63.49
| Wayne | 62.90
| Webster | 83.03
| Worth | 76.12
| Wright | 57.76
Montana | Beaverhead | 27.17
| Big Horn | 8.11
| Blaine | 12.21
| Broadwater | 24.13
| Carbon | 30.61
| Carter | 11.10
| Cascade | 25.00
| Chouteau | 19.25
| Custer | 11.06
| Daniels | 13.08
| Dawson | 13.78
| Deer Lodge | 40.08
| Fallon | 12.46
| Fergus | 22.57
| Flathead | 131.79
| Gallatin | 62.50
| Garfield | 8.33
| Glacier | 24.07
| Golden Valley | 13.82
| Granite | 33.38
| Hill | 17.76
| Jefferson | 35.11
| Judith Basin | 19.16
| Lake | 33.13
| Lewis and Clark | 26.94
| Liberty | 18.50
| Lincoln | 108.30
| Madison | 35.27
| McCone | 10.89
| Meagher | 18.73
| Mineral | 103.18
| Missoula | 57.68
| Musselshell | 13.18
| Park | 53.82
| Petroleum | 13.99
| Phillips | 10.93
| Pondera | 24.90
| Powder River | 11.37
| Powell | 26.71
| Prairie | 15.97
| Ravalli | 118.28
| Richland | 18.09
| Roosevelt | 14.89
| Rosebud | 8.87
| Sanders | 20.38
| Sheridan | 14.32
| Silver Bow | 46.43
| Stillwater | 27.72
| Sweet Grass | 23.43
| Teton | 24.46
| Toole | 18.09
| Treasure | 11.92
| Valley | 13.28
| Wheatland | 14.30
| Wibaux | 12.73
| Yellowstone | 20.69
Nebraska | Adams | 131.97
| Antelope | 113.75
| Arthur | 19.86
| Banner | 21.62
| Blaine | 24.62
| Boone | 110.30
| Box Butte | 33.07
| Boyd | 50.28
| Brown | 29.06
| Buffalo | 108.92
| Burt | 152.72
| Butler | 141.15
| Cass | 139.01
| Cedar | 128.48
| Chase | 51.69
| Cherry | 23.13
| Cheyenne | 25.29
| Clay | 120.25
| Colfax | 153.57
| Cuming | 150.91
| Custer | 61.36
| Dakota | 140.23
| Dawes | 22.04
| Dawson | 84.59
| Deuel | 32.35
| Dixon | 115.93
| Dodge | 158.97
| Douglas | 189.52
| Dundy | 37.93
| Fillmore | 135.07
| Franklin | 85.83
| Frontier | 46.59
| Furnas | 61.16
| Gage | 109.76
| Garden | 21.47
| Garfield | 36.77
| Gosper | 69.72
| Grant | 20.75
| Greeley | 73.51
| Hall | 126.02
| Hamilton | 157.21
| Harlan | 71.35
| Hayes | 35.08
| Hitchcock | 39.02
| Holt | 59.01
| Hooker | 18.22
| Howard | 86.55
| Jefferson | 102.92
| Johnson | 90.02
| Kearney | 129.72
| Keith | 40.31
| Keya Paha | 35.11
| Kimball | 26.65
| Knox | 82.93
| Lancaster | 138.79
| Lincoln | 41.50
| Logan | 29.75
| Loup | 28.83
| Madison | 144.27
| McPherson | 20.31
| Merrick | 125.80
| Morrill | 28.39
| Nance | 104.80
| Nemaha | 112.76
| Nuckolls | 88.96
| Otoe | 122.90
| Pawnee | 80.43
| Perkins | 53.06
| Phelps | 126.79
| Pierce | 120.79
| Platte | 156.89
| Polk | 146.55
| Red Willow | 48.27
| Richardson | 105.79
| Rock | 28.21
| Saline | 116.92
| Sarpy | 184.44
| Saunders | 139.86
| Scotts Bluff | 50.53
| Seward | 141.57
| Sheridan | 24.05
| Sherman | 66.35
| Sioux | 22.34
| Stanton | 123.74
| Thayer | 97.19
| Thomas | 19.34
| Thurston | 119.68
| Valley | 71.35
| Washington | 161.63
| Wayne | 136.66
| Webster | 67.91
| Wheeler | 37.88
| York | 170.53
Nevada | Carson City | 6.31
| Churchill | 13.28
| Clark | 21.57
| Douglas | 14.26
| Elko | 3.81
| Esmeralda | 14.45
| Eureka | 3.47
| Humboldt | 6.15
| Lander | 7.28
| Lincoln | 17.87
| Lyon | 15.86
| Mineral | 2.03
| Nye | 12.01
| Pershing | 5.56
| Storey | 6.31
| Washoe | 7.12
| White Pine | 9.20
New Hampshire | Belknap | 127.84
| Carroll | 102.21
| Cheshire | 98.62
| Coos | 66.70
| Grafton | 101.64
| Hillsborough | 202.27
| Merrimack | 150.84
| Rockingham | 293.48
| Strafford | 168.92
| Sullivan | 124.67
New Jersey | Atlantic | 313.19
| Bergen | 2,440.79
| Burlington | 246.64
| Camden | 402.87
| Cape May | 357.28
| Cumberland | 240.48
| Essex | 2,071.66
| Gloucester | 311.03
| Hudson | 1,234.39
| Hunterdon | 383.19
| Mercer | 444.46
| Middlesex | 534.24
| Monmouth | 514.83
| Morris | 525.72
| Ocean | 466.96
| Passaic | 784.02
| Salem | 206.60
| Somerset | 485.24
| Sussex | 283.03
| Union | 3,838.57
| Warren | 298.96
New Mexico | Bernalillo | 54.33
| Catron | 8.27
| Chaves | 9.31
| Cibola | 6.24
| Colfax | 9.94
| Curry | 13.69
| De Baca | 7.38
| Dona Ana | 48.91
| Eddy | 11.64
| Grant | 9.59
| Guadalupe | 6.12
| Harding | 7.21
| Hidalgo | 10.26
| Lea | 8.11
| Lincoln | 9.81
| Los Alamos | 10.26
| Luna | 10.14
| McKinley | 8.43
| Mora | 10.87
| Otero | 8.64
| Quay | 6.93
| Rio Arriba | 16.90
| Roosevelt | 9.00
| San Juan | 10.52
| San Miguel | 7.92
| Sandoval | 8.84
| Santa Fe | 17.35
| Sierra | 7.11
| Socorro | 12.37
| Taos | 32.20
| Torrance | 9.39
| Union | 8.13
| Valencia | 22.88
New York | Albany | 118.22
| Allegany | 53.53
| Bronx | 85.86
| Broome | 82.14
| Cattaraugus | 60.92
| Cayuga | 105.16
| Chautauqua | 70.33
| Chemung | 69.64
| Chenango | 54.67
| Clinton | 70.33
| Columbia | 111.36
| Cortland | 61.69
| Delaware | 76.58
| Dutchess | 240.37
| Erie | 121.67
| Essex | 63.34
| Franklin | 66.13
| Fulton | 74.21
| Genesee | 88.94
| Greene | 83.92
| Hamilton | 88.84
| Herkimer | 60.86
| Jefferson | 71.18
| Kings | 11,795.34
| Lewis | 53.42
| Livingston | 98.70
| Madison | 69.69
| Monroe | 114.50
| Montgomery | 66.08
| Nassau | 461.65
| New York | 85.86
| Niagara | 81.63
| Oneida | 70.70
| Onondaga | 109.60
| Ontario | 107.08
| Orange | 184.43
| Orleans | 84.37
| Oswego | 58.84
| Otsego | 70.89
| Putnam | 159.57
| Queens | 1,290.06
| Rensselaer | 93.41
| Richmond | 85.86
| Rockland | 765.04
| Saratoga | 156.61
| Schenectady | 114.02
| Schoharie | 64.75
| Schuyler | 86.95
| Seneca | 99.87
| St. Lawrence | 48.71
| Steuben | 55.81
| Suffolk | 324.90
| Sullivan | 112.02
| Tioga | 60.76
| Tompkins | 100.75
| Ulster | 183.44
| Warren | 110.99
| Washington | 74.29
| Wayne | 91.39
| Westchester | 283.07
| Wyoming | 92.08
| Yates | 138.98
North Carolina | Alamance | 160.19
| Alexander | 150.37
| Alleghany | 131.81
| Anson | 109.09
| Ashe | 140.38
| Avery | 173.38
| Beaufort | 91.31
| Bertie | 80.95
| Bladen | 89.01
| Brunswick | 104.66
| Buncombe | 265.63
| Burke | 152.21
| Cabarrus | 232.52
| Caldwell | 121.16
| Camden | 84.96
| Carteret | 121.11
| Caswell | 86.53
| Catawba | 174.69
| Chatham | 146.98
| Cherokee | 130.98
| Chowan | 93.29
| Clay | 167.59
| Cleveland | 124.52
| Columbus | 87.14
| Craven | 105.11
| Cumberland | 137.93
| Currituck | 130.98
| Dare | 112.32
| Davidson | 154.77
| Davie | 135.87
| Duplin | 128.10
| Durham | 284.50
| Edgecombe | 81.40
| Forsyth | 248.49
| Franklin | 94.94
| Gaston | 163.96
| Gates | 96.78
| Graham | 127.83
| Granville | 93.02
| Greene | 105.33
| Guilford | 218.34
| Halifax | 68.51
| Harnett | 148.85
| Haywood | 172.50
| Henderson | 207.08
| Hertford | 85.41
| Hoke | 117.53
| Hyde | 79.40
| Iredell | 145.19
| Jackson | 218.80
| Johnston | 126.58
| Jones | 108.24
| Lee | 153.89
| Lenoir | 106.26
| Lincoln | 153.01
| Macon | 212.68
| Madison | 132.40
| Martin | 71.50
| McDowell | 140.38
| Mecklenburg | 915.45
| Mitchell | 155.25
| Montgomery | 126.63
| Moore | 136.19
| Nash | 123.54
| New Hanover | 908.80
| Northampton | 74.68
| Onslow | 167.78
| Orange | 178.51
| Pamlico | 97.50
| Pasquotank | 106.37
| Pender | 142.81
| Perquimans | 95.05
| Person | 100.87
| Pitt | 102.66
| Polk | 171.99
| Randolph | 134.88
| Richmond | 116.54
| Robeson | 88.51
| Rockingham | 103.40
| Rowan | 156.19
| Rutherford | 127.67
| Sampson | 130.58
| Scotland | 96.12
| Stanly | 122.79
| Stokes | 109.04
| Surry | 119.37
| Swain | 97.66
| Transylvania | 206.52
| Tyrrell | 110.75
| Union | 142.46
| Vance | 79.51
| Wake | 311.25
| Warren | 77.67
| Washington | 97.93
| Watauga | 171.91
| Wayne | 133.23
| Wilkes | 136.80
| Wilson | 101.03
| Yadkin | 146.07
| Yancey | 145.40
North Dakota | Adams | 29.14
| Barnes | 63.10
| Benson | 37.35
| Billings | 25.09
| Bottineau | 42.21
| Bowman | 28.07
| Burke | 28.78
| Burleigh | 51.88
| Cass | 101.52
| Cavalier | 56.80
| Dickey | 64.85
| Divide | 29.19
| Dunn | 31.32
| Eddy | 39.73
| Emmons | 43.28
| Foster | 54.83
| Golden Valley | 28.73
| Grand Forks | 93.14
| Grant | 29.24
| Griggs | 48.52
| Hettinger | 38.36
| Kidder | 34.35
| LaMoure | 69.33
| Logan | 32.52
| McHenry | 29.74
| McIntosh | 37.24
| McKenzie | 28.02
| McLean | 48.74
| Mercer | 37.35
| Morton | 38.34
| Mountrail | 34.90
| Nelson | 37.14
| Oliver | 39.40
| Pembina | 75.28
| Pierce | 38.47
| Ramsey | 49.40
| Ransom | 54.94
| Renville | 43.83
| Richland | 87.08
| Rolette | 34.95
| Sargent | 76.10
| Sheridan | 29.98
| Sioux | 33.94
| Slope | 28.86
| Stark | 36.34
| Steele | 59.99
| Stutsman | 54.75
| Towner | 37.82
| Traill | 84.21
| Walsh | 68.62
| Ward | 44.59
| Wells | 46.72
| Williams | 29.93
Ohio | Adams | 105.69
| Allen | 197.55
| Ashland | 165.40
| Ashtabula | 119.06
| Athens | 87.48
| Auglaize | 221.65
| Belmont | 104.25
| Brown | 120.01
| Butler | 224.75
| Carroll | 128.23
| Champaign | 195.21
| Clark | 205.34
| Clermont | 152.60
| Clinton | 162.21
| Columbiana | 157.07
| Coshocton | 143.73
| Crawford | 175.50
| Cuyahoga | 444.17
| Darke | 226.49
| Defiance | 156.17
| Delaware | 213.02
| Erie | 178.17
| Fairfield | 209.69
| Fayette | 194.45
| Franklin | 218.92
| Fulton | 190.17
| Gallia | 85.57
| Geauga | 197.25
| Greene | 194.39
| Guernsey | 101.34
| Hamilton | 361.92
| Hancock | 164.50
| Hardin | 160.31
| Harrison | 90.12
| Henry | 178.33
| Highland | 136.70
| Hocking | 123.25
| Holmes | 210.76
| Huron | 165.62
| Jackson | 76.61
| Jefferson | 148.76
| Knox | 164.64
| Lake | 222.22
| Lawrence | 89.49
| Licking | 180.13
| Logan | 164.74
| Lorain | 203.76
| Lucas | 225.35
| Madison | 188.79
| Mahoning | 180.40
| Marion | 158.95
| Medina | 213.26
| Meigs | 94.39
| Mercer | 263.36
| Miami | 202.04
| Monroe | 88.97
| Montgomery | 196.41
| Morgan | 94.15
| Morrow | 163.41
| Muskingum | 111.65
| Noble | 83.80
| Ottawa | 147.27
| Paulding | 170.44
| Perry | 124.53
| Pickaway | 164.25
| Pike | 113.15
| Portage | 177.27
| Preble | 174.16
| Putnam | 182.25
| Richland | 204.33
| Ross | 124.78
| Sandusky | 161.34
| Scioto | 85.44
| Seneca | 160.33
| Shelby | 209.31
| Stark | 251.68
| Summit | 363.88
| Trumbull | 117.92
| Tuscarawas | 151.24
| Union | 172.89
| Van Wert | 204.03
| Vinton | 86.20
| Warren | 213.02
| Washington | 86.82
| Wayne | 243.40
| Williams | 140.51
| Wood | 181.30
| Wyandot | 155.35
Oklahoma | Adair | 64.17
| Alfalfa | 45.69
| Atoka | 49.20
| Beaver | 24.09
| Beckham | 35.74
| Blaine | 43.68
| Bryan | 60.82
| Caddo | 46.47
| Canadian | 63.02
| Carter | 54.46
| Cherokee | 66.61
| Choctaw | 47.59
| Cimarron | 22.13
| Cleveland | 130.14
| Coal | 48.85
| Comanche | 51.73
| Cotton | 36.46
| Craig | 56.47
| Creek | 58.83
| Custer | 38.95
| Delaware | 73.21
| Dewey | 36.78
| Ellis | 26.67
| Garfield | 46.57
| Garvin | 51.43
| Grady | 56.29
| Grant | 43.06
| Greer | 31.01
| Harmon | 33.59
| Harper | 29.54
| Haskell | 51.03
| Hughes | 42.79
| Jackson | 37.51
| Jefferson | 41.48
| Johnston | 50.22
| Kay | 44.13
| Kingfisher | 51.59
| Kiowa | 33.64
| Latimer | 48.18
| Le Flore | 58.00
| Lincoln | 60.12
| Logan | 60.10
| Love | 65.86
| Major | 39.81
| Marshall | 64.98
| Mayes | 74.58
| McClain | 70.72
| McCurtain | 57.44
| McIntosh | 51.00
| Murray | 57.36
| Muskogee | 60.52
| Noble | 47.73
| Nowata | 55.35
| Okfuskee | 45.96
| Oklahoma | 173.85
| Okmulgee | 59.34
| Osage | 42.71
| Ottawa | 74.48
| Pawnee | 47.84
| Payne | 64.95
| Pittsburg | 47.00
| Pontotoc | 58.16
| Pottawatomie | 60.47
| Pushmataha | 41.37
| Roger Mills | 34.39
| Rogers | 78.07
| Seminole | 48.91
| Sequoyah | 58.78
| Stephens | 47.19
| Texas | 27.18
| Tillman | 35.60
| Tulsa | 156.38
| Wagoner | 76.00
| Washington | 63.15
| Washita | 39.87
| Woods | 35.57
| Woodward | 32.62
Oregon | Baker | 23.74
| Benton | 122.26
| Clackamas | 408.55
| Clatsop | 135.84
| Columbia | 164.34
| Coos | 57.88
| Crook | 18.14
| Curry | 67.24
| Deschutes | 164.59
| Douglas | 64.83
| Gilliam | 13.67
| Grant | 19.65
| Harney | 12.95
| Hood River | 264.46
| Jackson | 161.30
| Jefferson | 16.24
| Josephine | 341.67
| Klamath | 41.57
| Lake | 20.53
| Lane | 162.48
| Lincoln | 104.41
| Linn | 134.68
| Malheur | 28.26
| Marion | 234.85
| Morrow | 21.40
| Multnomah | 396.50
| Polk | 135.13
| Sherman | 16.14
| Tillamook | 148.05
| Umatilla | 34.64
| Union | 34.41
| Wallowa | 30.99
| Wasco | 17.30
| Washington | 324.71
| Wheeler | 17.19
| Yamhill | 193.28
Pennsylvania | Adams | 185.82
| Allegheny | 236.55
| Armstrong | 98.33
| Beaver | 163.26
| Bedford | 109.99
| Berks | 302.47
| Blair | 182.06
| Bradford | 97.76
| Bucks | 253.87
| Butler | 142.78
| Cambria | 124.97
| Cameron | 76.74
| Carbon | 178.61
| Centre | 180.80
| Chester | 327.59
| Clarion | 86.62
| Clearfield | 97.36
| Clinton | 176.42
| Columbia | 162.69
| Crawford | 90.16
| Cumberland | 205.43
| Dauphin | 237.22
| Delaware | 388.44
| Elk | 113.28
| Erie | 121.73
| Fayette | 111.74
| Forest | 132.22
| Franklin | 203.14
| Fulton | 112.66
| Greene | 98.33
| Huntingdon | 129.90
| Indiana | 97.14
| Jefferson | 89.43
| Juniata | 175.99
| Lackawanna | 143.04
| Lancaster | 493.41
| Lawrence | 118.41
| Lebanon | 388.58
| Lehigh | 211.80
| Luzerne | 163.61
| Lycoming | 138.13
| McKean | 76.85
| Mercer | 107.86
| Mifflin | 166.74
| Monroe | 158.99
| Montgomery | 522.42
| Montour | 173.83
| Northampton | 202.49
| Northumberland | 158.45
| Perry | 178.88
| Philadelphia | 1,584.29
| Pike | 60.07
| Potter | 92.53
| Schuylkill | 179.31
| Snyder | 197.85
| Somerset | 86.97
| Sullivan | 110.39
| Susquehanna | 127.91
| Tioga | 102.46
| Union | 259.02
| Venango | 102.46
| Warren | 93.39
| Washington | 175.70
| Wayne | 115.87
| Westmoreland | 159.45
| Wyoming | 111.82
| York | 221.30
Puerto Rico | All Areas | 146.16
Rhode Island | Bristol | 1,028.81
| Kent | 323.01
| Newport | 556.95
| Providence | 325.31
| Washington | 310.53
South Carolina | Abbeville | 82.04
| Aiken | 99.82
| Allendale | 58.46
| Anderson | 150.38
| Bamberg | 77.69
| Barnwell | 73.80
| Beaufort | 95.98
| Berkeley | 70.83
| Calhoun | 80.85
| Charleston | 248.26
| Cherokee | 89.14
| Chester | 88.05
| Chesterfield | 78.22
| Clarendon | 60.26
| Colleton | 80.29
| Darlington | 68.79
| Dillon | 60.71
| Dorchester | 74.49
| Edgefield | 93.46
| Fairfield | 75.97
| Florence | 83.89
| Georgetown | 54.14
| Greenville | 243.47
| Greenwood | 90.52
| Hampton | 64.63
| Horry | 119.51
| Jasper | 97.01
| Kershaw | 81.85
| Lancaster | 104.72
| Laurens | 101.60
| Lee | 64.02
| Lexington | 146.62
| Marion | 61.77
| Marlboro | 51.06
| McCormick | 53.10
| Newberry | 87.82
| Oconee | 169.19
| Orangeburg | 79.97
| Pickens | 186.81
| Richland | 127.11
| Saluda | 81.96
| Spartanburg | 218.11
| Sumter | 79.36
| Union | 67.15
| Williamsburg | 59.49
| York | 184.93
South Dakota | Aurora | 72.16
| Beadle | 73.22
| Bennett | 25.89
| Bon Homme | 108.33
| Brookings | 125.13
| Brown | 91.42
| Brule | 70.10
| Buffalo | 42.01
| Butte | 26.08
| Campbell | 49.79
| Charles Mix | 75.81
| Clark | 85.65
| Clay | 127.85
| Codington | 94.27
| Corson | 24.99
| Custer | 43.40
| Davison | 92.39
| Day | 71.92
| Deuel | 93.75
| Dewey | 26.37
| Douglas | 101.18
| Edmunds | 66.89
| Fall River | 19.47
| Faulk | 69.25
| Grant | 101.39
| Gregory | 51.09
| Haakon | 25.10
| Hamlin | 106.75
| Hand | 55.90
| Hanson | 117.52
| Harding | 18.08
| Hughes | 51.42
| Hutchinson | 122.22
| Hyde | 41.52
| Jackson | 23.79
| Jerauld | 65.01
| Jones | 31.08
| Kingsbury | 103.60
| Lake | 139.24
| Lawrence | 48.64
| Lincoln | 187.78
| Lyman | 44.89
| Marshall | 76.51
| McCook | 118.74
| McPherson | 58.57
| Meade | 25.86
| Mellette | 26.24
| Miner | 96.06
| Minnehaha | 175.35
| Moody | 158.25
| Pennington | 18.32
| Perkins | 28.77
| Potter | 22.60
| Roberts | 57.48
| Sanborn | 81.76
| Shannon | 77.68
| Spink | 85.16
| Stanley | 25.04
| Sully | 58.57
| Todd | 23.11
| Tripp | 44.05
| Turner | 136.47
| Union | 159.75
| Walworth | 53.84
| Yankton | 120.24
| Ziebach | 23.25
Tennessee | Anderson | 148.77
| Bedford | 113.44
| Benton | 67.76
| Bledsoe | 93.78
| Blount | 175.21
| Bradley | 165.11
| Campbell | 112.65
| Cannon | 97.65
| Carroll | 74.46
| Carter | 141.53
| Cheatham | 124.06
| Chester | 69.15
| Claiborne | 85.15
| Clay | 90.73
| Cocke | 120.52
| Coffee | 111.75
| Crockett | 91.61
| Cumberland | 110.06
| Davidson | 244.41
| Decatur | 60.14
| DeKalb | 92.12
| Dickson | 114.36
| Dyer | 91.58
| Fayette | 91.82
| Fentress | 94.52
| Franklin | 111.64
| Gibson | 96.40
| Giles | 89.16
| Grainger | 103.39
| Greene | 122.31
| Grundy | 94.16
| Hamblen | 149.92
| Hamilton | 268.15
| Hancock | 72.47
| Hardeman | 62.31
| Hardin | 60.76
| Hawkins | 101.46
| Haywood | 90.35
| Henderson | 68.66
| Henry | 90.49
| Hickman | 85.86
| Houston | 88.01
| Humphreys | 75.76
| Jackson | 84.53
| Jefferson | 140.17
| Johnson | 108.16
| Knox | 268.01
| Lake | 95.58
| Lauderdale | 92.15
| Lawrence | 89.73
| Lewis | 77.83
| Lincoln | 99.72
| Loudon | 154.90
| Macon | 102.44
| Madison | 88.83
| Marion | 88.58
| Marshall | 95.23
| Maury | 109.90
| McMinn | 127.02
| McNairy | 59.97
| Meigs | 90.57
| Monroe | 115.75
| Montgomery | 133.86
| Moore | 98.57
| Morgan | 83.25
| Obion | 97.98
| Overton | 91.85
| Perry | 60.33
| Pickett | 95.31
| Polk | 111.97
| Putnam | 126.56
| Rhea | 117.36
| Roane | 143.36
| Robertson | 143.87
| Rutherford | 200.39
| Scott | 72.71
| Sequatchie | 105.19
| Sevier | 166.44
| Shelby | 142.57
| Smith | 93.95
| Stewart | 72.14
| Sullivan | 192.33
| Sumner | 144.61
| Tipton | 89.56
| Trousdale | 93.43
| Unicoi | 194.51
| Union | 111.40
| Van Buren | 91.20
| Warren | 94.08
| Washington | 214.27
| Wayne | 64.44
| Weakley | 98.44
| White | 103.88
| Williamson | 165.00
| Wilson | 133.69
Texas | Anderson | 73.70
| Andrews | 20.45
| Angelina | 94.69
| Aransas | 43.76
| Archer | 38.62
| Armstrong | 24.14
| Atascosa | 59.33
| Austin | 101.50
| Bailey | 22.14
| Bandera | 65.77
| Bastrop | 106.91
| Baylor | 26.82
| Bee | 53.19
| Bell | 85.29
| Bexar | 154.33
| Blanco | 77.49
| Borden | 22.95
| Bosque | 64.52
| Bowie | 78.04
| Brazoria | 121.64
| Brazos | 147.83
| Brewster | 17.70
| Briscoe | 23.21
| Brooks | 40.33
| Brown | 62.65
| Burleson | 89.05
| Burnet | 77.02
| Caldwell | 99.29
| Calhoun | 55.71
| Callahan | 45.01
| Cameron | 92.51
| Camp | 85.60
| Carson | 35.31
| Cass | 60.94
| Castro | 35.86
| Chambers | 61.51
| Cherokee | 80.74
| Childress | 24.04
| Clay | 50.00
| Cochran | 24.06
| Coke | 25.00
| Coleman | 42.69
| Collin | 258.46
| Collingsworth | 26.35
| Colorado | 78.19
| Comal | 88.74
| Comanche | 68.58
| Concho | 38.33
| Cooke | 85.94
| Coryell | 67.72
| Cottle | 28.84
| Crane | 22.04
| Crockett | 21.10
| Crosby | 25.21
| Culberson | 19.13
| Dallam | 29.47
| Dallas | 210.41
| Dawson | 27.03
| Deaf Smith | 29.31
| Delta | 51.14
| Denton | 248.17
| DeWitt | 79.83
| Dickens | 27.68
| Dimmit | 36.64
| Donley | 22.48
| Duval | 44.10
| Eastland | 51.04
| Ector | 30.09
| Edwards | 30.40
| El Paso | 104.33
| Ellis | 83.44
| Erath | 82.27
| Falls | 65.30
| Fannin | 74.66
| Fayette | 104.78
| Fisher | 29.39
| Floyd | 26.14
| Foard | 29.00
| Fort Bend | 80.63
| Franklin | 80.56
| Freestone | 66.65
| Frio | 48.02
| Gaines | 30.01
| Galveston | 137.70
| Garza | 26.12
| Gillespie | 78.97
| Glasscock | 23.88
| Goliad | 69.07
| Gonzales | 82.64
| Gray | 29.73
| Grayson | 175.92
| Gregg | 146.79
| Grimes | 99.97
| Guadalupe | 101.16
| Hale | 33.81
| Hall | 23.88
| Hamilton | 65.22
| Hansford | 34.87
| Hardeman | 27.13
| Hardin | 81.26
| Harris | 224.39
| Harrison | 68.29
| Hartley | 32.25
| Haskell | 27.34
| Hays | 253.96
| Hemphill | 28.95
| Henderson | 82.84
| Hidalgo | 112.23
| Hill | 65.72
| Hockley | 26.19
| Hood | 89.08
| Hopkins | 75.83
| Houston | 72.53
| Howard | 24.04
| Hudspeth | 23.47
| Hunt | 80.40
| Hutchinson | 25.15
| Irion | 25.86
| Jack | 60.63
| Jackson | 75.62
| Jasper | 83.34
| Jeff Davis | 17.85
| Jefferson | 61.20
| Jim Hogg | 45.14
| Jim Wells | 53.76
| Johnson | 102.67
| Jones | 29.65
| Karnes | 63.56
| Kaufman | 78.22
| Kendall | 80.45
| Kenedy | 19.15
| Kent | 22.27
| Kerr | 64.89
| Kimble | 51.76
| King | 18.01
| Kinney | 32.25
| Kleberg | 34.30
| Knox | 28.95
| La Salle | 41.16
| Lamar | 65.15
| Lamb | 32.38
| Lampasas | 73.49
| Lavaca | 91.24
| Lee | 95.52
| Leon | 78.92
| Liberty | 78.17
| Limestone | 47.87
| Lipscomb | 29.21
| Live Oak | 56.10
| Llano | 68.08
| Loving | 4.96
| Lubbock | 44.23
| Lynn | 26.17
| Madison | 77.85
| Marion | 52.05
| Martin | 23.13
| Mason | 60.24
| Matagorda | 62.29
| Maverick | 36.51
| McCulloch | 51.22
| McLennan | 93.76
| McMullen | 47.19
| Medina | 69.49
| Menard | 38.51
| Midland | 41.81
| Milam | 82.19
| Mills | 65.20
| Mitchell | 25.91
| Montague | 70.99
| Montgomery | 296.60
| Moore | 29.47
| Morris | 59.33
| Motley | 22.01
| Nacogdoches | 75.23
| Navarro | 61.04
| Newton | 57.71
| Nolan | 28.64
| Nueces | 79.31
| Ochiltree | 32.01
| Oldham | 21.18
| Orange | 120.03
| Palo Pinto | 63.41
| Panola | 69.38
| Parker | 111.64
| Parmer | 29.23
| Pecos | 17.98
| Polk | 78.24
| Potter | 26.40
| Presidio | 20.35
| Rains | 90.41
| Randall | 41.11
| Reagan | 21.78
| Real | 49.92
| Red River | 50.07
| Reeves | 13.67
| Refugio | 32.48
| Roberts | 19.78
| Robertson | 75.07
| Rockwall | 143.86
| Runnels | 35.94
| Rusk | 66.55
| Sabine | 58.62
| San Augustine | 73.28
| San Jacinto | 106.54
| San Patricio | 68.86
| San Saba | 63.64
| Schleicher | 30.69
| Scurry | 27.18
| Shackelford | 33.52
| Shelby | 91.13
| Sherman | 37.19
| Smith | 136.37
| Somervell | 81.41
| Starr | 47.66
| Stephens | 45.45
| Sterling | 17.62
| Stonewall | 23.75
| Sutton | 33.00
| Swisher | 27.18
| Tarrant | 158.62
| Taylor | 53.35
| Terrell | 19.52
| Terry | 26.48
| Throckmorton | 36.59
| Titus | 65.48
| Tom Green | 40.85
| Travis | 162.57
| Trinity | 68.71
| Tyler | 88.66
| Upshur | 89.47
| Upton | 21.00
| Uvalde | 33.76
| Val Verde | 26.19
| Van Zandt | 95.45
| Victoria | 75.88
| Walker | 95.60
| Waller | 121.35
| Ward | 27.65
| Washington | 124.24
| Webb | 44.51
| Wharton | 75.41
| Wheeler | 28.30
| Wichita | 38.30
| Wilbarger | 33.24
| Willacy | 45.66
| Williamson | 96.72
| Wilson | 82.48
| Winkler | 29.13
| Wise | 101.24
| Wood | 87.36
| Yoakum | 24.40
| Young | 43.94
| Zapata | 36.69
| Zavala | 45.24
Utah | Beaver | 25.35
| Box Elder | 17.46
| Cache | 55.04
| Carbon | 14.10
| Daggett | 31.62
| Davis | 106.19
| Duchesne | 11.11
| Emery | 23.93
| Garfield | 35.61
| Grand | 9.38
| Iron | 22.26
| Juab | 15.11
| Kane | 20.66
| Millard | 23.26
| Morgan | 25.05
| Piute | 23.70
| Rich | 9.94
| Salt Lake | 110.26
| San Juan | 4.18
| Sanpete | 32.11
| Sevier | 48.76
| Summit | 37.18
| Tooele | 15.66
| Uintah | 7.17
| Utah | 99.46
| Wasatch | 63.28
| Washington | 42.56
| Wayne | 51.69
| Weber | 106.12
Vermont | Addison | 89.60
| Bennington | 128.05
| Caledonia | 85.73
| Chittenden | 171.60
| Essex | 52.55
| Franklin | 83.80
| Grand Isle | 115.63
| Lamoille | 93.66
| Orange | 98.90
| Orleans | 72.75
| Rutland | 74.18
| Washington | 115.07
| Windham | 134.63
| Windsor | 103.84
Virginia | Accomack | 115.64
| Albemarle | 268.01
| Alleghany | 114.20
| Amelia | 83.83
| Amherst | 126.09
| Appomattox | 83.83
| Arlington | 8,073.86
| Augusta | 189.63
| Bath | 99.62
| Bedford | 119.18
| Bland | 93.36
| Botetourt | 113.74
| Brunswick | 68.11
| Buchanan | 65.51
| Buckingham | 101.09
| Campbell | 83.61
| Caroline | 100.14
| Carroll | 87.21
| Charles City | 91.39
| Charlotte | 71.01
| Chesapeake City | 158.44
| Chesterfield | 249.69
| Clarke | 190.90
| Craig | 81.01
| Culpeper | 155.71
| Cumberland | 103.12
| Dickenson | 76.40
| Dinwiddie | 83.12
| Essex | 86.54
| Fairfax | 455.33
| Fauquier | 199.38
| Floyd | 103.01
| Fluvanna | 116.91
| Franklin | 97.59
| Frederick | 195.70
| Giles | 83.26
| Gloucester | 127.80
| Goochland | 147.12
| Grayson | 112.57
| Greene | 176.95
| Greensville | 73.48
| Halifax | 71.82
| Hanover | 136.42
| Henrico | 164.35
| Henry | 80.22
| Highland | 86.64
| Isle of Wight | 100.63
| James City | 274.00
| King and Queen | 91.49
| King George | 138.47
| King William | 109.62
| Lancaster | 114.80
| Lee | 71.69
| Loudoun | 265.95
| Louisa | 134.19
| Lunenburg | 72.18
| Madison | 161.18
| Mathews | 115.91
| Mecklenburg | 74.89
| Middlesex | 107.48
| Montgomery | 131.19
| Nelson | 137.45
| New Kent | 145.03
| Northampton | 124.22
| Northumberland | 81.44
| Nottoway | 85.99
| Orange | 170.61
| Page | 176.51
| Patrick | 75.18
| Pittsylvania | 76.81
| Powhatan | 143.57
| Prince Edward | 77.16
| Prince George | 103.14
| Prince William | 289.74
| Pulaski | 95.31
| Rappahannock | 186.70
| Richmond | 107.15
| Roanoke | 155.60
| Rockbridge | 133.25
| Rockingham | 239.61
| Russell | 78.30
| Scott | 71.45
| Shenandoah | 159.42
| Smyth | 79.38
| Southampton | 83.64
| Spotsylvania | 152.73
| Stafford | 355.03
| Suffolk | 111.81
| Surry | 91.55
| Sussex | 75.18
| Tazewell | 74.13
| Virginia Beach City | 261.40
| Warren | 204.50
| Washington | 136.50
| Westmoreland | 101.11
| Wise | 83.91
| Wythe | 106.23
| York | 327.70
Washington | Adams | 25.31
| Asotin | 23.44
| Benton | 69.08
| Chelan | 272.90
| Clallam | 226.27
| Clark | 158.53
| Columbia | 28.85
| Cowlitz | 158.69
| Douglas | 20.91
| Ferry | 9.18
| Franklin | 81.43
| Garfield | 27.87
| Grant | 60.62
| Grays Harbor | 42.44
| Island | 194.55
| Jefferson | 134.87
| King | 624.62
| Kitsap | 623.13
| Kittitas | 73.13
| Klickitat | 31.51
| Lewis | 106.34
| Lincoln | 21.65
| Mason | 151.72
| Okanogan | 21.39
| Pacific | 61.38
| Pend Oreille | 47.23
| Pierce | 380.82
| San Juan | 167.58
| Skagit | 179.51
| Skamania | 214.10
| Snohomish | 342.58
| Spokane | 66.06
| Stevens | 27.80
| Thurston | 210.52
| Wahkiakum | 85.15
| Walla Walla | 44.85
| Whatcom | 297.60
| Whitman | 30.94
| Yakima | 48.82
West Virginia | Barbour | 63.52
| Berkeley | 145.52
| Boone | 63.63
| Braxton | 55.88
| Brooke | 76.86
| Cabell | 96.96
| Calhoun | 49.60
| Clay | 46.85
| Doddridge | 57.92
| Fayette | 79.25
| Gilmer | 35.83
| Grant | 71.33
| Greenbrier | 70.90
| Hampshire | 81.73
| Hancock | 124.44
| Hardy | 87.41
| Harrison | 68.12
| Jackson | 60.15
| Jefferson | 159.78
| Kanawha | 105.58
| Lewis | 58.76
| Lincoln | 50.14
| Logan | 67.31
| Marion | 80.64
| Marshall | 70.38
| Mason | 66.11
| McDowell | 168.56
| Mercer | 68.42
| Mineral | 75.85
| Mingo | 30.36
| Monongalia | 123.24
| Monroe | 72.42
| Morgan | 142.39
| Nicholas | 71.14
| Ohio | 98.59
| Pendleton | 61.21
| Pleasants | 62.79
| Pocahontas | 51.01
| Preston | 74.73
| Putnam | 77.97
| Raleigh | 100.90
| Randolph | 65.97
| Ritchie | 49.11
| Roane | 52.51
| Summers | 61.81
| Taylor | 83.66
| Tucker | 77.89
| Tyler | 52.04
| Upshur | 71.96
| Wayne | 54.66
| Webster | 62.55
| Wetzel | 52.42
| Wirt | 49.19
| Wood | 90.68
| Wyoming | 91.06
Wisconsin | Adams | 120.55
| Ashland | 59.99
| Barron | 91.82
| Bayfield | 58.84
| Brown | 228.13
| Buffalo | 105.81
| Burnett | 73.13
| Calumet | 211.46
| Chippewa | 95.58
| Clark | 108.98
| Columbia | 156.51
| Crawford | 85.40
| Dane | 221.26
| Dodge | 156.94
| Door | 127.75
| Douglas | 52.66
| Dunn | 96.70
| Eau Claire | 122.65
| Florence | 67.86
| Fond du Lac | 195.37
| Forest | 65.15
| Grant | 126.67
| Green | 145.74
| Green Lake | 153.61
| Iowa | 130.62
| Iron | 91.33
| Jackson | 102.05
| Jefferson | 165.27
| Juneau | 99.47
| Kenosha | 203.43
| Kewaunee | 150.92
| La Crosse | 133.93
| Lafayette | 160.51
| Langlade | 87.87
| Lincoln | 87.04
| Manitowoc | 183.26
| Marathon | 127.59
| Marinette | 104.12
| Marquette | 112.15
| Menominee | 46.62
| Milwaukee | 239.76
| Monroe | 106.53
| Oconto | 111.88
| Oneida | 109.17
| Outagamie | 193.54
| Ozaukee | 176.01
| Pepin | 104.04
| Pierce | 124.07
| Polk | 94.99
| Portage | 110.11
| Price | 66.04
| Racine | 206.30
| Richland | 90.13
| Rock | 176.95
| Rusk | 66.73
| Sauk | 112.98
| Sawyer | 69.63
| Shawano | 125.20
| Sheboygan | 177.08
| St. Croix | 125.90
| Taylor | 78.82
| Trempealeau | 106.29
| Vernon | 104.30
| Vilas | 158.79
| Walworth | 186.19
| Washburn | 84.00
| Washington | 189.41
| Waukesha | 147.89
| Waupaca | 121.28
| Waushara | 113.62
| Winnebago | 187.21
| Wood | 88.92
Wyoming | Albany | 10.74
| Big Horn | 23.35
| Campbell | 8.32
| Carbon | 8.08
| Converse | 7.77
| Crook | 14.38
| Fremont | 18.72
| Goshen | 12.67
| Hot Springs | 9.12
| Johnson | 8.64
| Laramie | 12.46
| Lincoln | 26.86
| Natrona | 6.67
| Niobrara | 9.21
| Park | 21.95
| Platte | 12.90
| Sheridan | 17.98
| Sublette | 24.26
| Sweetwater | 4.35
| Teton | 59.49
| Uinta | 15.75
| Washakie | 17.18
| Weston | 9.83

[FR Doc. 2022-01105 Filed 1-20-22; 8:45 am]

BILLING CODE 6717-01-P